ENVIRONMENTAL PROTECTION AGENCY

40 CFR Parts 52 and 81

[EPA-R08-OAR-2020-0021; FRL-10023-84-Region 8]

Approval and Promulgation of Implementation Plans; State of Utah; Logan, Utah-Idaho PM2.5 Redesignation to Attainment, Maintenance Plan, and Rule Revisions

AGENCY: Environmental Protection Agency (EPA).

ACTION: Final rule.

SUMMARY: The Environmental Protection Agency (EPA) is approving the request by the State of Utah to redesignate the Logan, Utah-Idaho (UT-ID) nonattainment area (NAA) (Logan NAA) to attainment status for the 2006 24-hour National Ambient Air Quality Standards (NAAQS) for particulate matter with an aerodynamic diameter less than or equal to a nominal 2.5 microns (PM2.5), and approving related State Implementation Plan (SIP) revisions submitted by the State of Utah on November 5, 2019, and January 13, 2020. EPA is taking this action pursuant to the Clean Air Act (CAA or the Act). A separate EPA redesignation rulemaking will be conducted for the Idaho portion of the Logan NAA.

DATES: This rule is effective on June 18, 2021.

ADDRESSES: EPA has established a docket for this action under Docket ID No. EPA-R08-OAR-2020-0021. All documents in the docket are listed on the http://www.regulations.gov website. Although listed in the index, some information is not publicly available, e.g., CBI or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Crystal Ostigaard, Air and Radiation Division, EPA, Region 8, Mailcode 8ARD-IO, 1595 Wynkoop Street, Denver, Colorado 80202-1129, (303) 312-6602, ostigaard.crystal@epa.gov.

SUPPLEMENTARY INFORMATION: Throughout this document “we,” “us,” and “our” means EPA.

I. Background

The background for this action is discussed in detail in our February 26, 2021 (86 FR 11694) proposal. In that document we proposed to approve the State of Utah's request to redesignate the Logan NAA to attainment for the 2006 24-hour PM2.5 NAAQS. We also proposed to approve related SIP revisions submitted on November 5, 2019 and January 13, 2020. The November 5, 2019 submittal included revisions to Utah's R307-110-31 and R307-110-36 rules, concerning SIP Sections X.A. and X.F. The January 13, 2020 submittal contained revisions to R307-110-10 and the maintenance plan for the Logan NAA.

II. Response to Comments

We received no comments on the February 26, 2021 (86 FR 11694) proposal.

III. Final Action

We are approving the Governor of Utah's submittal of January 13, 2020, which contained revisions to R307-110-10, the Logan PM2.5 maintenance plan and redesignation request, the maintenance plan's 2035 Motor Vehicle Emissions Budgets (MVEBs), and the nitrogen oxide (NOX)-to-direct-PM2.5 MVEB trading mechanism. We are also approving the Governor of Utah's submittal of November 5, 2019, which revised R307-110-31, R307-110-36, Utah SIP Section X.A., and Utah SIP Section X.F. Upon the effective date of this final action, the status of the Utah portion of the Logan area under 40 CFR part 81 will be revised to attainment.

IV. Incorporation by Reference

In this document, EPA is finalizing regulatory text that includes incorporation by reference. In accordance with requirements of 1 CFR 51.5, EPA is finalizing the incorporation by reference of R307-110-10; R307-110-31; R307-110-36. EPA has made, and will continue to make, these materials generally available through www.regulations.gov and at the EPA Region 8 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹

¹ 62 FR 27968 (May 22, 1997).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 19, 2021. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects

40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

40 CFR Part 81

Environmental protection, Air pollution control, National parks, and Wilderness areas.

Authority: 42 U.S.C. 7401 et seq.

Dated: May 11, 2021.
Debra H. Thomas,
Acting Regional Administrator, Region 8.

40 CFR parts 52 and 81 are amended as follows:

PART 52—APPROVAL AND PROMULGATION OF IMPLEMENTATION PLANS

1. The authority citation for part 52 continues to read as follows:

Authority: 42 U.S.C. 7401 et seq.

Subpart TT—Utah

2. In § 52.2320:

a. In the table in paragraph (c), revise the entries “R307-110-10”, “R307-110-31”, and “R307-110-36”.

b. In the table in paragraph (e):

i. Revise the entries “Section X.A. General Requirements and Applicability” and “Section X.F. Cache County”.

ii. Add the entry “Logan, UT—ID Fine Particulate Matter (PM2.5) Attainment Plan Summary” at the end of the table.

The revisions and addition read as follows:

§ 52.2320 Identification of plan.

* * * * *

(c) * * *

Rule No. | Rule title | State effective date | Final rule citation, date | Comments
* * * * * * *
R307-110. General Requirements: State Implementation Plan
* * * * * * *
R307-110-10 | Section IX. Control Measures for Area and Point Sources, Part A, Fine Particulate Matter | 12/5/2019 | [insert Federal Register citation], 5/19/2021 |
* * * * * * *
R307-110-31 | Section X, Vehicle Inspection and Maintenance Program, Part A, General Requirements and Applicability | 9/5/2019 | [insert Federal Register citation], 5/19/2021 |
* * * * * * *
R307-110-36 | Section X, Vehicle Inspection and Maintenance Program, Part F, Cache County | 9/5/2019 | [insert Federal Register citation], 5/19/2021 |
* * * * * * *

* * * * *

(e) * * *

Rule title | State effective date | Final rule citation, date | Comments
* * * * * * *
X. Vehicle Inspection and Maintenance Program
Section X.A. General Requirements and Applicability | 9/5/2019 | [insert Federal Register citation], 5/19/2021 |
* * * * * * *
Section X.F. Cache County | 9/5/2019 | [insert Federal Register citation], 5/19/2021 |
* * * * * * *
Maintenance Plans
* * * * * * *
Logan, UT-ID Fine Particulate Matter (PM2.5) Attainment Plan Summary | 12/5/2019 | [insert Federal Register citation], 5/19/2021 |

PART 81—DESIGNATION OF AREAS FOR AIR QUALITY PLANNING PURPOSES

3. The authority citation for part 81 continues to read as follows:

Authority: 42 U.S.C. 7401, et seq.

Subpart C—Section 107 Attainment Status Designations

4. In § 81.345, the table titled “UTAH—2006 24-HOUR PM2.5 NAAQS” is amended by revising the entry “Logan, UT-ID: Cache County (part)” to read as follows:

§ 81.345 Utah.

* * * * *

Utah—2006 24-Hour PM2.5 NAAQS
[Primary and secondary]
Designated area | Designation ᵃ: Date ¹ | Designation ᵃ: Type | Classification: Date ² | Classification: Type
Logan, UT-ID:
Cache County (part) | June 18, 2021 | Attainment
All portions of Cache County west of and including any portion of the following townships located within Utah:
Township 15 North Range 1 East;
Township 14 North Range 1 East;
Township 13 North Range 1 East;
Township 12 North Range 1 East;
Township 11 North Range 1 East;
Township 10 North Range 1 East;
Township 9 North Range 1 East.
* * * * * * *
ᵃ Includes Indian Country located in each county or area, except as otherwise specified.
¹ This date is 30 days after November 13, 2009, unless otherwise noted.
² This date is July 2, 2034, unless otherwise noted.

* * * * *

[FR Doc. 2021-10364 Filed 5-18-21; 8:45 am]

BILLING CODE 6560-50-P